DEPARTMENT OF COMMERCE

Submission for OMB Review; Comment Request

The Department of Commerce will submit to the Office of Management and Budget (OMB) for clearance the following proposal for collection of information under the provisions of the Paperwork Reduction Act.

Agency: U.S. Census Bureau.

Title: Public Employment & Payroll Forms.

OMB Control Number: 0607-0452.

Form Number(s): E-1, E-2, E-3, E-4, E-5, E-6, E-7, E-8, E-9, E-10.

Type of Request: Extension of a currently approved collection.

Number of Respondents: 16,357.

Average Hours per Response: 50 minutes.

Burden Hours: 13,614.

Needs and Uses: The Census Bureau's Public Employment & Payroll Program, consisting of a Census of Governments: Employment Phase (conducted every 5 years in years ending in 2 and 7) and the related Annual Survey of Public Employment & Payroll (conducted in the intervening years), provides a rich source of data on state and local government employment and payroll in the United States. The survey provides state and local government data on full-time and part-time employment, part-time hours worked, full-time equivalent employment, and payroll statistics by governmental function (e.g., elementary and secondary education, higher education, police protection, fire protection, financial administration, central staff services, judicial and legal, highways, public welfare, etc.).

This request is for clearance of the forms and procedures to be used in conducting the 2019, 2020 and 2021 Annual Survey of Public Employment & Payroll.

The users of the Public Employment and Payroll Program data include Federal agencies, state and local governments and related organizations, public interest groups, and many business, market, and private research organizations. The Census Bureau provides these employment data to the Bureau of Economic Analysis for constructing the functional payrolls in the public sector of the Gross Domestic Product; payroll being the single largest component of current operations. The public employment and payroll data are also used in reimbursable programs conducted by the Census Bureau for other Federal agencies such as: (1) The government portion of the Medical Expenditure Panel Survey commissioned by the Agency for Healthcare Research and Quality to provide timely, comprehensive information about health care use and costs in the United States, and (2) the Criminal Justice Expenditure and Employment Survey, sponsored by the Bureau of Justice Statistics (BJS), which provides criminal justice expenditure and employment data on spending and personnel levels.

Affected Public: State, local or tribal governments.

Frequency: Annually.

Respondent's Obligation: Voluntary.

Legal Authority: Title 13, U.S.C., Sections 161 and 182.

This information collection request may be viewed at www.reginfo.gov. Follow the instructions to view Department of Commerce collections currently under review by OMB.

Written comments and recommendations for the proposed information collection should be sent within 30 days of publication of this notice to OIRA_Submission@omb.eop.gov or fax to (202)395-5806.

Sheleen Dumas,
Departmental PRA Lead Officer, Office of the Chief Information Officer.

[FR Doc. 2018-16769 Filed 8-3-18; 8:45 am]

BILLING CODE 3510-07-P